Proclamation 8178 of September 20, 2007

Family Day, 2007

By the President of the United States of America

A Proclamation

Families are the cornerstone of our Nation. On Family Day, we underscore our dedication to strengthening America's families and recognize the importance that the bonds between parents and children hold for the future of our country.

Parents and family members are the first and most important influence in a child's life. Families offer a stable and nurturing environment by providing love, guidance, support, and comfort. They help young people gain the skills they need to succeed in life and the courage and drive to realize their dreams. By caring for and spending time with their children, parents instill lifelong values and help build a better America.

My Administration is committed to supporting American families. We are working with faith-based and community organizations to promote healthy marriages, responsible fatherhood, and positive youth development. When children are connected to family, community, school, and places of worship, they are more likely to make good choices and reach their full potential.

Families help prepare children for the opportunities and challenges of the 21st century by encouraging them and insisting on high standards. Strong, loving families help young Americans grow into successful adults and build a Nation shining with optimism.

NOW, THEREFORE, I, GEORGE W. BUSH, President of the United States of America, by virtue of the authority vested in me by the Constitution and laws of the United States, do hereby proclaim September 24, 2007, as Family Day. I call upon the people of the United States to observe this day by engaging in activities that strengthen the bonds between parents and children.

IN WITNESS WHEREOF, I have hereunto set my hand this twentieth day of September, in the year of our Lord two thousand seven, and of the Independence of the United States of America the two hundred and thirty-second.

[FR Doc. 07-4767

Filed 9-25-07; 8:45 am]

Billing code 3195-01-P